INTERNATIONAL TRADE COMMISSION

[Investigation Nos. 701-TA-417 and 731-TA-953, 957-959, and 961 (Third Review)]

Carbon and Certain Alloy Steel Wire Rod From Brazil, Indonesia, Mexico, Moldova, and Trinidad and Tobago

Determinations

On the basis of the record ¹ developed in the subject five-year reviews, the United States International Trade Commission (“Commission”) determines, pursuant to the Tariff Act of 1930 (“the Act”), that revocation of the countervailing duty order on carbon and certain alloy steel wire rod from Brazil and the antidumping duty orders on carbon and certain alloy steel wire rod from Brazil, Indonesia, Mexico, Moldova, and Trinidad and Tobago would be likely to lead to continuation or recurrence of material injury to an industry in the United States within a reasonably foreseeable time.

¹ The record is defined in § 207.2(f) of the Commission's Rules of Practice and Procedure (19 CFR 207.2(f)).

Background

The Commission instituted these reviews on June 3, 2019 (84 FR 25564) and determined on September 6, 2019 that it would conduct full reviews (84 FR 50474, September 25, 2019). Notice of the scheduling of the Commission's reviews and of a public hearing to be held in connection therewith was given by posting copies of the notice in the Office of the Secretary, U.S. International Trade Commission, Washington, DC, and by publishing the notice in the Federal Register on March 12, 2020 (85 FR 14506). In light of the restrictions on access to the Commission building due to the COVID-19 pandemic, and in accordance with 19 U.S.C. 1677c(a)(1), the Commission conducted its hearing on June 16, 2020 by video conference and written witness testimony as set forth in procedures provided to the parties. All persons who requested the opportunity were permitted to participate.

The Commission made these determinations pursuant to section 751(c) of the Act (19 U.S.C. 1675(c)). It completed and filed its determinations in these reviews on August 17, 2020. The views of the Commission are contained in USITC Publication 5100 (August 2020), entitled Carbon and Certain Alloy Steel Wire Rod from Brazil, Indonesia, Mexico, Moldova, and Trinidad and Tobago: Investigation Nos. 701-TA-417 and 731-TA-953, 957-959, and 961 (Third Review).

By order of the Commission.
Issued: August 18, 2020.
Lisa Barton,
Secretary to the Commission.

[FR Doc. 2020-18390 Filed 8-20-20; 8:45 am]

BILLING CODE 7020-02-P